DEPARTMENT OF JUSTICE

Notice of Lodging of Consent Decree Pursuant to the Safe Drinking Water Act

Under 28 CFR 50.7, notice is hereby given that on November 13, 2000, a proposed Consent Decree (“the Decree”) in United States v. Russell Wilkey, Civil Action No. 4:97 CV-239-M, was lodged with the United States District Court for the Western District of Kentucky.

The Defendent was the owner and operator of four underground injection wells located in Daviess County, Kentucky. The Complaint filed by the United States alleged that Defendent violated the Safe Drinking Water Act (“the SDWA”), an Administrative Order on Consent (“AOC”) issued by the United States Environmental Protection Agency to Dependent under the SDWA, and regulations contained in the Underground Injection Control (“UIC”) program for Kentucky in his operation of those injection wells. The Decree will resolve all of the United States' claims against the Dependent. Dependent has agreed to pay the United States a civil penalty of $20,000 for the violations. Dependent has already plugged and abandoned all of the injection wells.

The Department of Justice will receive for a period of thirty (30) days from the date of this publication comments relating to the Decree. Comments should be addressed to the Assistant Attorney General, Environmental and Natural Resources Division, U.S. Department of Justice, P.O. Box 7611, Washington, D.C. 20044-7611, and should refer to United States v. Russell Wilkey, DOJ No. 90-5-1-1-4487.

The Decree may be examined at the Office of the United States Attorney for the Western District of Kentucky, 510 W. Broadway, 10th Fl., Louisville, Kentucky, and also at the U.S. Environmental Protection Agency, Region 4, Environmental Accountability Division, 61 Forsyth Street, S.W., Atlanta, Georgia.

A copy of the Decree may also be obtained by mail from the Consent Decree Library, P.O. Box 7611, U.S. Department of Justice, Washington, D.C. 20044-7611. In requesting a copy of the Decree, please enclose a check in the amount of $3.25 (25 cents per page reproduction cost), made payable to the “Consent Decree Library.”

Walker B. Smith,
Deputy Chief, Environmental Enforcement Section, Environment & Natural Resources Division.

[FR Doc. 00-30606 Filed 11-30-00; 8:45 am]

BILLING CODE 4410-15-M